DEPARTMENT OF ENERGY

Federal Energy Regulatory Commission

[Docket No. EG00-27-000, et al.]

North Hartland, LLC, et al.; Electric Rate and Corporate Regulation Filings

March 14, 2000.

Take notice that the following filings have been made with the Commission:

1. AmerGen Energy Company, L.L.C.

[Docket No. EG00-27-000]

Take notice that on March 9, 2000, AmerGen Energy Company, L.L.C., submitted a supplement to its application for exempt wholesale generator status.

Comment date: April 4, 2000, in accordance with Standard Paragraph E at the end of this notice. The Commission will limit its consideration of comments to those that concern the adequacy or accuracy of the application.

2. Panda Oneta Power, L.P.

[Docket No. EG00-114-000]

Take notice that on March 10, 2000, Panda Oneta Power, L.P. (Panda Oneta), with its principal offices at 4100 Spring Valley Road, Suite 1001, Dallas, Texas 75244, filed with the Federal Energy Regulatory Commission, an application for determination of exempt wholesale generator status pursuant to Section 32 of the Public Utility Holding Company Act of 1935, as amended, and Part 365 of the Commission's regulations.

Panda Oneta is a Delaware limited partnership, which will construct, own and operate a nominal 1000 MW natural gas-fired generating facility within the region governed by the Southwest Power Pool and sell electricity at wholesale.

Comment date: April 4, 2000, in accordance with Standard Paragraph E at the end of this notice. The Commission will limit its consideration of comments to those that concern the adequacy or accuracy of the application.

3. Northern Maine Independent System Administrator, Inc.

[Docket No. EL00-51-000]

Take notice that on March 8, 2000, Northern Maine Independent System Administrator, Inc. (Northern Maine ISA) tendered for filing with the Commission a Request for Partial Waiver of the Requirements Part 45 of the Commission Regulations.

Comment date: April 7, 2000, in accordance with Standard Paragraph E at the end of this notice.

4. Little Bay Power Corporation

[Docket No. ER00-1843-000]

Take notice that on March 9, 2000, Little Bay Power Corporation filed a quarterly report for the quarter ending December 31, 1999.

Comment date: April 3, 2000, in accordance with Standard Paragraph E at the end of this notice.

5. Lamar Power Partners, LP

[Docket No. ER00-1844-000]

Take notice that on March 9, 2000, Lamar Power Partners, LP (Lamar), tendered for filing pursuant to Rules 204 and 205 an application for waivers and blanket approvals under various regulations of the Commission and for an order accepting its FERC Electric Rates Schedule No. 1, to be effective May 8, 2000, for wholesale sales to customers located outside of the ERCOT region of Texas, and to accept the rates thereunder as just and reasonable under Section 205(a) of the Federal Power Act, 16 U.S.C. § 824d(a). Lamar is a limited partnership that proposes to engage in the wholesale sale of electric power in the state of Texas and is headquartered in Florida.

Comment date: March 30, 2000, in accordance with Standard Paragraph E at the end of this notice.

6. Citizens Power Sales

[Docket No. ER00-1845-000]

Take notice that on March 9, 2000, Citizens Power Sales filed a Notice of Succession. Effective March 1, 2000, Citizens Power Sales converted from a general partnership to a limited liability company and changed its name to Citizens Power Sales LLC.

Comment date: March 30, 2000, in accordance with Standard Paragraph E at the end of this notice.

7. Jersey Central Power & Light Company; Metropolitan Edison Company and Pennsylvania Electric Company

[Docket No. ER00-1848-000]

Take notice that on March 10, 2000, Jersey Central Power & Light Company, Metropolitan Edison Company and Pennsylvania Electric Company (d/b/a GPU Energy), filed an executed Service Agreement between GPU Energy and Public Service Electric and Gas Company (PSE&G), dated March 6, 2000. This Service Agreement specifies that PSE&G has agreed to the rates, terms and conditions of GPU Energy's Market-Based Sales Tariff (Sales Tariff) designated as FERC Electric Rate Schedule, Second Revised Volume No. 5. The Sales Tariff allows GPU Energy and PSE&G to enter into separately scheduled transactions under which GPU Energy will make available for sale, surplus capacity and/or energy.

GPU Energy requests a waiver of the Commission's notice requirements for good cause shown and an effective date of March 6, 2000 for the Service Agreement.

GPU Energy has served copies of the filing on regulatory agencies in New Jersey and Pennsylvania.

Comment date: March 31, 2000, in accordance with Standard Paragraph E at the end of this notice.

8. PJM Interconnection, L.L.C.

[Docket No. ER00-1849-000]

Take notice that on March 10, 2000, PJM Interconnection, L.L.C. (PJM), tendered for filing revised pages to the PJM Open Access Transmission Tariff and the Amended and Restated Operating Agreement of PJM Interconnection, L.L.C. setting forth procedures for a two-settlement system.

PJM requests an effective date of May 31, 2000.

Copies of this filing were served upon all PJM Members and the state electric regulatory commissions in the PJM Control Area.

Comment date: March 31, 2000, in accordance with Standard Paragraph E at the end of this notice.

9. Jersey Central Power & Light Company, Metropolitan Edison Company, Pennsylvania Electric Company

[Docket No. ER00-1850-000]

Take notice that on March 10, 2000, Jersey Central Power & Light Company, Metropolitan Edison Company and Pennsylvania Electric Company (doing business and hereinafter referred to as “GPU Energy”) submitted for filing revised Schedule 9.02 to the GPU Power Pooling Agreement. Schedule 9.02 has been revised to reflect the fact the GPU Energy has sold the Three Mile Island Unit No. 1 Nuclear Generating Station to AmerGen Energy Company, LLC.

Comment date: March 31, 2000, in accordance with Standard Paragraph E at the end of this notice.

10. Pleasant Hill Marketing, LLC

[Docket No. ER00-1851-000]

Take notice that on March 10, 2000, Pleasant Hill Marketing, LLC, an indirect wholly owned subsidiary of UtiliCorp United Inc., tendered for filing a rate schedule to engage in sales at market-based rates. Pleasant Hill included in its filing a proposed code of conduct.

Comment date: March 31, 2000, in accordance with Standard Paragraph E at the end of this notice.

11. Southern Indiana Gas and Electric Company

[Docket No. ER00-1852-000]

Take notice that on March 10, 2000, Southern Indiana Gas and Electric Company (SIGECO) tendered for filing the following agreement concerning the provision of electric service to British Columbia Power Exchange Corporation, as a umbrella service agreement under its market-based Wholesale Power Sales Tariff:

Wholesale Energy Service Agreement dated February 24, 2000, by and between Southern Indiana Gas and Electric Company and British Columbia Power Exchange Corporation.

Comment date: March 31, 2000, in accordance with Standard Paragraph E at the end of this notice.

12. Cleco Utility Group Inc.

[Docket No. ER00-1854-000]

Take notice that on March 10, 2000, Cleco Utility Group Inc., tendered for filing an Interconnection and Operating Agreement between itself and Acadia Power Partners, LLC in connection with Acadia Power Partner LLC's proposed construction of a new generating facility in Acadia Parish, Louisiana.

Comment date: March 31, 2000, in accordance with Standard Paragraph E at the end of this notice.

13. Metropolitan Edison Company

[Docket No. ER00-1855-000]

Take notice that on March 10, 2000, Metropolitan Edison Company (d/b/a GPU Energy) tendered for filing a Generation Facility Transmission Interconnection Agreement between GPU Energy and Calpine Construction Finance Company, L.P.

GPU Energy requests an effective date of March 11, 2000, for the agreement.

Comment date: March 31, 2000, in accordance with Standard Paragraph E at the end of this notice.

14. PECO Energy Company

[Docket No. ER00-1856-000]

Take notice that on March 10, 2000, PECO Energy Company (PECO), tendered for filing under Section 205 of the Federal Power Act, 16 U.S.C. S 792 et seq., an Agreement dated February 29, 2000 with Delmarva Power & Light Company (DELMARVA) under PECO's FERC Electric Tariff Original Volume No. 1 (Tariff).

PECO requests an effective date of March 1, 2000, for the Agreement.

PECO states that copies of this filing have been supplied to Delaware Power & Light Company and to the Pennsylvania Public Utility Commission.

Comment date: March 31, 2000, in accordance with Standard Paragraph E at the end of this notice.

15. Split Rock Energy LLC and Minnesota Power, Inc.

[Docket No. ER00-1857-000]

Take notice that on March 10, 2000, Split Rock Energy LLC (Split Rock), filed an application for an order authorizing Split Rock to make wholesales sales of electric power at market-based rates. Concurrent with Split Rock's filing, Minnesota Power, Inc. (MP), tendered for filing proposed revisions to its Wholesale Coordination Service Tariff No. 2 (WCS-2 Tariff), designated as FERC Electric Tariff Original Volume No. 5. MP's revisions revise the WCS-2 Tariff to provide that MP may make sales of power under the WCS-2 Tariff, to Split Rock at market-based rates.

Comment date: March 31, 2000, in accordance with Standard Paragraph E at the end of this notice.

16. New Hampshire Electric Cooperative, Inc.

[Docket No. ER00-1858-000]

Take notice that on March 10, 2000, New Hampshire Electric Cooperative, Inc. (NHEC), petitioned the Commission for acceptance of NHEC Rate Schedule; the granting of certain blanket approvals, including the authority to sell electricity at market-based rates; and the waiver of certain Commission Regulations.

NHEC intends to engage in wholesale electric power and energy sales as a marketer. NHEC is a consumer-owned electric generation and distribution cooperative that provides electric service to 65,000 customers in New Hampshire.

Comment date: March 31, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-7063 Filed 3-21-00; 8:45 am]

BILLING CODE 6717-01-P